DEPARTMENT OF ENERGY

Federal Energy Regulatory Commission

[Docket No. RP02-218-001]

East Tennessee Natural Gas Company; Notice of Compliance Filing

July 2, 2002.

Take notice that on June 27, 2002, East Tennessee Natural Gas Company (East Tennessee) submitted workpapers relating to its annual cashout report for the November 2000 through October 2001 period pursuant to Rate Schedules LMS-MA and LMS-PA of its FERC Gas Tariff. The purpose of this filing is to comply with the Commission's order issued on June 12, 2002 in Docket No. RP02-218.

East Tennessee states that copies of the filing were mailed to each person designated on the official service list compiled by the Secretary in this proceeding.

Any person desiring to protest said filing should file a protest with the Federal Energy Regulatory Commission, 888 First Street, NE., Washington, DC 20426, in accordance with section 385.211 of the Commission's Rules and Regulations. All such protests must be filed on or before July 9, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-17168 Filed 7-8-02; 8:45 am]

BILLING CODE 6717-01-P